DEPARTMENT OF ENERGY

Federal Energy Regulatory Commission

Notice of Intent to File an Application for a New License

February 15, 2000.

a. Type of Filing: Notice of Intent to File An Application for a New License.

b. Project No.: 2619.

c. Date Filed: February 4, 2000.

d. Submitted By: Nantahala Power and Light—current licensee.

e. Name of Project: Mission Hydroelectric Project.

f. Location: On the Hiwassee River, a tributary of the Tennessee River, in Clay County, North Carolina.

g. Filed Pursuant to: Section 15 of the Federal Power Act.

h. Licensee Contact: John C. Wishon, Nantahala Power and Light, 301 NP&L Loop, Franklin, NC 28734, (828) 369-4604.

i. FERC Contact: Tom Dean, thomas.dean@ferc.fed.us, (202) 219-2778.

j. Effective date of current license: May 1, 1965.

k. Expiration date of current license: July 31, 2005.

l. Description of the Project: The project consists of the following existing facilities: (1) a 47.5-foot-high, 397-foot-long concrete dam comprised of a gated spillway section; (2) the 60-acre Mission Reservoir at a normal pool elevation of 1,658.40 feet U.S.G.S.; (3) three 56-foot-long penstocks; (4) a powerhouse integral with the dam, containing three generating units with a total installed capacity of 1,800 kW; (5) a 34.5-kV transmission line; and (6) other appurtenances.

m. Each application for a new license and any competing license applications must be filed with the Commission at least 24 months prior to the expiration of the existing license. All applications for license for this project must be filed by July 31, 2003.

David P. Boergers,
Secretary.

[FR Doc. 00-4090 Filed 2-18-00; 8:45 am]

BILLING CODE 6717-01-M